DEPARTMENT OF COMMERCE

U.S. Census Bureau

Proposed Information Collection; Comment Request; Census Coverage Measurement Person Interview and Reinterview Operations

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before August 18, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Gia F Donnalley, U.S. Census Bureau, 4600 Silver Hill Road, Room 4K067, Washington, DC 20233, 301-763-4370 (or via the Internet at Gia.F.Donnalley@census.gov).

SUPPLEMENTARY INFORMATION:

I. Abstract

The 2010 Census Coverage Measurement (CCM) Person Interview and Reinterview Operations will be conducted in the U.S. (excluding remote Alaska) and in Puerto Rico in select CCM sampled areas. The primary sampling unit is a block cluster, which consists of one or more geographically contiguous census blocks. As in the past, the CCM operations and activities will be conducted independent of and not influence the 2010 Census operations.

CCM will be conducted to provide estimates of both net coverage error and coverage error components for omissions and erroneous enumerations for housing units and persons in housing units (see Definition of Terms) in order to gather information necessary to improve future censuses. The data collection and matching methodologies for previous coverage measurement programs were designed only to measure net coverage error, which measures the net difference between omissions and erroneous enumerations.

The 2010 CCM sample is a multi-phase probability sample of housing units comprising a number of distinct processes, ranging from forming block clusters, selecting the block clusters where the CCM survey will be conducted, to eventually selecting addresses for interviewing. Two samples will be selected to measure census coverage of housing units and household population: The population sample or P Sample; and the enumeration sample or E sample. These two samples have traditionally defined the samples for dual system estimation, a statistical technique for measuring net coverage error. The P Sample is a sample of housing units and persons obtained and independently enumerated from the census for a sample of block clusters, while the E Sample is a sample of census housing units and enumerations in the same block clusters as the P sample.

The independent list of housing units is obtained during the CCM Independent Listing Operation, the results of which will be matched to census housing units in the sample block clusters and surrounding blocks. After the CCM Independent Listing and matching operations have taken place, some cases with discrepancies between the CCM Independent Listing and the Census will be identified to receive the CCM Housing Unit Followup interview. The results of this interview will again be matched to the list of census housing units. The results of the housing unit matching operations will be used to determine which CCM and Census addresses will be eligible to go to the CCM Person Interview (PI) Operation. After data collected from the CCM PI is matched to data collected by the Census, some cases with discrepancies between the CCM PI and Census will be sent for another CCM interview called the CCM Person Followup Operation. A separate Federal Register Notice has already been issued for the CCM Independent Listing and CCM Housing Unit Followup operations. A Federal Register Notice will be issued later for the CCM Person Followup Operation.

For each sample block cluster, we will conduct a CCM PI for selected housing units. During CCM PI, interviewers will use a computer-assisted data collection instrument on a laptop to obtain information about the current residents of the sample housing unit including those who may have moved into the selected housing unit since Census Day (April 1, 2010). The interviewer will also attempt to collect data on certain persons who moved out of the sample housing unit between Census Day and the CCM PI interview. We will include nonmatched Census addresses in the CCM PI so we can ascertain their Census enumeration status earlier than if they were included in the Person Followup operation that is conducted later in the CCM processing.

The CCM PI operation will collect the information listed below only for persons in housing units (PI is not conducted in businesses or Group Quarters). The automated CCM PI instrument will collect the following information for the housing units included in this operation:

1. Roster of people living at the housing unit at the time of the CCM PI Interview.

2. Census Day address information for people who moved into the sample address since Census Day.

3. Other addresses where a person may have been counted on Census Day.

4. Information to determine where each person should be counted on Census Day (according to Census residence rules). For example, interviewers will probe for persons who might have been left off the household roster; ask additional questions about persons who moved from another address on Census Day to the sample address; collect additional information for persons with multiple addresses.

5. Demographic information for each person in the household on Interview Day or Census Day, including name, date of birth, age, Hispanic Origin, race, and relationship.

6. Name and above information for any person who has moved out of the sample address since Census Day (if known).

The CCM Person Interview Reinterview (PI RI) is a quality control operation that will be conducted on 10 percent of the PI cases. The purpose of the PI RI is to confirm that the CCM PI interviewer conducted a CCM PI interview with a household member or a proxy respondent and to conduct the complete CCM PI interview as needed if the original interview seems questionable.

II. Method of Collection

The CCM Person Interview and Reinterview operations will be conducted using a computer-assisted data collection instrument on a laptop. The CCM PI will be conducted through personal interviews while the CCM PI RI will be conducted by telephone and person interviews. The CCM PI and PI RI operations will occur starting August 14, 2010 through October 9, 2010.

Definition of Terms

Components of Coverage Error—The two components of census coverage error are census omissions (missed persons or housing units) and erroneous enumerations (persons or housing units enumerated in the census that should not have been). Examples of erroneous enumerations are persons or housing units enumerated in the census that should not have been enumerated at all, persons or housing units enumerated in an incorrect location, and persons or housing units enumerated more than once (duplicates).

Net Coverage Error—Net Coverage Error is a measure of the difference between census omissions and erroneous enumerations. A positive net error indicates an undercount, while a negative net error indicates an overcount.

For more information about the Census 2010 Coverage Measurement Program, please visit the following page of the Census Bureau's Web site: http://www.census.gov/cac/www/pdf/coverage-measurement-program.pdf.

III. Data

OMB Control Number: None.

Form Number: None.

Type of Review: Regular submission.

Affected Public: Individuals or Households.

Estimated Number of Respondents: 362,250 sample addresses for PI and 36,225 sample addresses for PI RI.

Estimated Time per Response: 15 minutes.

Estimated Total Annual Burden Hours: 99,619 hours.

Estimated Total Annual Cost: No cost to the respondents except for their time to respond.

Respondent's Obligation: Mandatory.

Legal Authority: Title 13, U.S. Code, Sections 141, 193, and 221.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 16, 2009.
Glenna Mickelson,
Management Analyst, Office of the Chief Information Officer.

[FR Doc. E9-14479 Filed 6-18-09; 8:45 am]

BILLING CODE 3510-07-P